DEPARTMENT OF ENERGY

Federal Energy Regulatory Commission

[Docket No. RP96-272-019]

Northern Natural Gas Company; Notice of Proposed Changes in FERC Gas Tariff

November 6, 2000.

Take notice that on October 31, 2000, Northern Natural Gas Company (Northern) tendered for filing to become part of Northern's FERC Gas Tariff, Fifth Revised Volume No. 1, the following tariff sheets, proposed to become effective on November 1, 2000:

Eleventh Revised Sheet No. 66

First Revised Sheet No. 66A

First Revised Sheet No. 66B

Sixth Revised Sheet No. 66C

Northern states that the above sheets are being filed to implement a specific negotiated rate transaction with Midwest Natural Gas, Inc. in accordance with the Commission's Policy Statement on Alternatives to Traditional Cost-of-Service Ratemaking for Natural Gas Pipelines. In addition, those negotiated rates that have expired have been deleted.

Northern further states that copies of the filing have been mailed to each of its customers and interested State Commissions.

Any person desiring to be heard or to protest said filing should file a motion to intervene or a protest with the Federal Energy Regulatory Commission, 888 First Street, NE., Washington, DC 20426, in accordance with § 385.214 or § 385.211 of the Commission's rules and regulations. All such motions or protests must be filed in accordance with § 154.210 of the Commission's regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-28926 Filed 11-9-00; 8:45 am]

BILLING CODE 6717-01-M